FEDERAL COMMUNICATIONS COMMISSION

47 CFR Part 54

[GN Docket No. 12-354; Report No. 3029]

Petitions for Reconsideration of Action in Rulemaking Proceeding; Correction

AGENCY: Federal Communications Commission.

ACTION: Petitions for reconsideration; correction.

SUMMARY: The Federal Communications Commission published in the Federal Register of October 2, 2015, a document concerning Petitions for Reconsideration in the Commission's Rulemaking proceeding. This document corrects the DATES section and replaces “October 13, 2015” with “October 29, 2015” as the correct due date for replies to oppositions.

DATES: Replies to opposition are due on October 29, 2015.

FOR FURTHER INFORMATION CONTACT: Paul Powell, 202-418-1613; Email: paul.powell@fcc.gov.

SUPPLEMENTARY INFORMATION: The FCC published a document in the Federal Register at 80 FR 59705, October 2, 2015, inadvertently setting October 13, 2015 as the due date for replies to oppositions to Petitions for Reconsideration. This correction replaces the incorrect date with the correct date.

In proposed rule 2015-25001 published at 80 FR 59705, October 2, 2015, make the following correction. On page 59705, in the first column, in the DATES section state that the “replies to the opposition are due on “October 29, 2015,” in lieu of “October 13, 2015.”

Federal Communications Commission
Marlene H. Dortch,
Secretary.

[FR Doc. 2015-26305 Filed 10-15-15; 8:45 am]

BILLING CODE 6712-01-P